DEPARTMENT OF TRANSPORTATION

National Highway Traffic Safety Administration

[Docket No. NHTSA 2006-26422; Notice 2]

Hankook Tire Co., Ltd.; Grant of Petition for Decision of Inconsequential Noncompliance

Hankook Tire Co., Ltd. (Hankook) has determined that certain tires that it produced in 2005 and 2006 do not comply with S5.5.5 of 49 CFR 571.139, Federal Motor Vehicle Safety Standard (FMVSS) No. 139, ``New pneumatic radial tires for light vehicles.'' Pursuant to 49 U.S.C. 30118(d) and 30120(h), Hankook has petitioned for a determination that this noncompliance is inconsequential to motor vehicle safety and has filed an appropriate report pursuant to 49 CFR Part 573, ``Defect and Noncompliance Reports.'' Notice of receipt of a petition was published, with a 30-day comment period, on December 13, 2006, in the Federal Register (71 FR 74995). NHTSA received no comments.

Affected are a total of approximately 19,606 passenger car temporary spare tires produced between October 2005 and April 2006. Although Hankook asserted that they had certified the subject tires to the requirements of FMVSS No. 139, only tires manufactured between June 26, 2003 and January 6, 2006 were permitted, at the manufacturer's option, to be certified to the requirements of FMVSS No. 139.¹ See ``Federal Motor Vehicle Safety Standards; Tires,'' 68 FR 38116 (June 26, 2003) and 71 FR 877 (January 6, 2006). For tires manufactured after January 6, 2006, FMVSS No. 109, ``New Pneumatic Tires'' is the only safety standard to which temporary spares could be certified. Therefore, Hankook's petition is being processed as applying to FMVSS No. 109 in addition to FMVSS No. 139. In either standard, the noncompliance issue is the same; however, different paragraphs are referenced for the two standards. S4.3.5 of FMVSS No. 109 and S5.5.5 of FMVSS No. 139 require that the tires have a sidewall marking ``inflate to 420 kPa (60 psi)'' of no less than 12.7 mm high. In the marking on the noncompliant tires, the letters are 8 mm high. Hankook has corrected the problems that caused these errors so that they will not be repeated in future productions.

¹ All temporary spares were required to be certified to FMVSS No. 109 until June 26, 2003 when FMVSS No. 139 took effect. However, the agency moved temporary spares back to FMVSS No. 109 after January 6, 2006 by granting a petition for reconsideration.

Hankook believes that the noncompliance is inconsequential to motor vehicle safety and that no corrective action is warranted. Hankook states that the noncompliance ``affects consumer information only and does not affect safety of the tires.'' Hankook further states that the tires comply with all other FMVSS requirements.

NHTSA agrees with Hankook that the noncompliance is inconsequential to motor vehicle safety. As Hankook states, even with the reduced size of the 8mm on the sidewall marking, the user or purchaser of the tire can still read the letters. Therefore, the noncompliance does not affect the safety of the tire or its use.

In consideration of the foregoing, NHTSA has decided that the petitioner has met its burden of persuasion that the noncompliance described is inconsequential to motor vehicle safety. Accordingly, Hankook's petition is granted and the petitioner is exempted from the obligation of providing notification of, and a remedy for, the noncompliance.

(Authority: 49 U.S.C. 30118, 30120; delegations of authority at CFR 1.50 and 501.8.)

Issued on: February 28, 2007.
Daniel C. Smith,
Associate Administrator for Enforcement.

[FR Doc. E7-3926 Filed 3-6-07; 8:45 am]

BILLING CODE 4910-59-P